DEPARTMENT OF JUSTICE

Drug Enforcement Administration

Sai Wentum, M.D.; Decision and Order

On March 20, 2012, the Deputy Assistant Administrator, Office of Diversion Control, Drug Enforcement Administration, issued an Order to Show Cause to Sai Wentum, M.D. (Registrant), of Nashville, Tennessee. GX 4. The Show Cause Order proposed the revocation of Registrant's DEA Certificate of Registration FW2529672, which authorizes him to dispense controlled substances as a practitioner, on the ground that Registrant does not possess authority under the laws of the State of Tennessee, the State in which he is registered with DEA, to dispense controlled substances. Id. at 1 (citing 21 U.S.C. 824(a)(3)). In particular, the Show Cause Order alleged that Registrant is currently unlicensed to practice medicine and without authority to handle controlled substances in the State of Tennessee as a result of “actions by the Tennessee Board of Medical Examiners.” ¹ Id.

¹ The Show Cause Order does not specifically set forth the actions allegedly taken by the Tennessee Board of Medical Examiners. See GX 4, at 1.

The Show Cause Order also notified Registrant of his right to request a hearing on the allegations or to submit a written statement regarding the matters of fact and law asserted in lieu of a hearing, the procedures for doing either, and the consequences for failing to do either. Id. at 2 (citing 21 CFR 1301.43(a), (c), (d), & (e)). On March 28, 2012, the Show Cause Order was served on Respondent by certified mail addressed to him at his registered locations in both Nashville, Tennessee and Detroit, Michigan. GX 5 & GX 6. Since the date of service of the Show Cause Order, thirty days have now passed and neither Registrant, nor anyone purporting to represent him, has requested a hearing or submitted a statement in lieu of a hearing. I therefore find that Registrant has waived his right to a hearing or to submit a written statement in lieu of a hearing and issue this Decision and Final Order based on relevant evidence contained in the record submitted by the Government. 21 CFR 1301.43(d) & (e). I make the following findings of fact.

Findings

Registrant is the holder of DEA Certificate of Registration FW2529672, which authorizes him to dispense controlled substances in schedules II through V, as a practitioner, at the registered address of 213 W. Maplewood Lane, Suite 400, Nashville, Tennessee 37207. GX 1. His registration has an expiration date of May 31, 2014. Id.

By letter dated June 7, 2011, the Tennessee Board of Medical Examiners (hereinafter, the Board) notified Registrant that the Board had voted to deny his application for licensure as a medical doctor and that his temporary license, previously issued on April 1, 2011, had been rescinded. GX 2. After Registrant appealed the Board's decision to deny his application for licensure, the Board issued an Agreed Order on November 16, 2011. GX 3. The Board found that Registrant is not qualified to obtain a Tennessee medical license because he is not a graduate of a board-approved international medical school, as required by Tenn. Code Ann. § 63-6-207 and Tenn. Comp. R. & Reg. Rule 0880-02-04. Id. at 3. Registrant admitted the truth of the allegations contained in the Agreed Order. Id. at 2. Accordingly, the Board denied Registrant's application for licensure as a medical doctor. Id. at 4. I therefore find that Registrant currently lacks authority under Tennessee law to dispense controlled substances.

Discussion

The Controlled Substances Act (CSA) grants the Attorney General authority to revoke a registration “upon a finding that the registrant * * * has had his State license or registration suspended [or] revoked * * * and is no longer authorized by State law to engage in the * * * distribution [or] dispensing of controlled substances.” 21 U.S.C. 824(a)(3). Moreover, DEA has long held that a practitioner must be currently authorized to handle controlled substances in the jurisdiction in which he practices in order to maintain a DEA registration. See Gerald T. Hanley, 53 FR 5658 (1988). This rule derives from the text of the CSA, which defines “the term `practitioner' [to] mean[] a * * * physician * * * or other person licensed, registered or otherwise permitted, by * * * the jurisdiction in which he practices * * * to distribute, dispense, [or] administer * * * a controlled substance in the course of professional practice,” 21 U.S.C. 802(21), and which imposes, as a condition for obtaining a registration, that a practitioner be authorized to dispense controlled substances under the laws of the State in which he practices. See id. § 823(f) (“The Attorney General shall register practitioners * * * if the applicant is authorized to dispense * * * controlled substances under the laws of the State in which he practices.”).

As these provisions make plain, possessing authority under state law to dispense controlled substances is an essential condition for holding a DEA registration. See David W. Wang, 72 FR 54297, 54298 (2007); Sheran Arden Yeates, 71 FR 39130, 39131 (2006); Dominick A. Ricci, 58 FR 51104, 51105 (1993); Bobby Watts, 53 FR 11919, 11920 (1988). DEA has therefore consistently held that revocation is the appropriate sanction whenever a practitioner has lost his state authority to dispense controlled substances. James L. Hooper, 76 FR 71371, 71372-73 (2011) (collecting cases), pet. for rev. denied Hooper v. Holder, No. 11-2351, 2012 WL 2020079 (4th Cir. June 6, 2012) (unpublished).

Because Registrant no longer has authority to dispense controlled substances in the State in which he holds his DEA registration, he is not entitled to maintain his DEA registration. See 21 U.S.C. 802(21), 823(f), and 824(a)(3). Accordingly, Registrant's registration will be revoked.

Order

Pursuant to the authority vested in me by 21 U.S.C. 824(a), as well as 28 CFR 0.100(b), I order that DEA Certificate of Registration FW2529672, issued to Sai Wentum, M.D., be, and it hereby is, revoked. This Order is effective September 14, 2012.

Dated: July 31, 2012
Michele M. Leonhart,
Administrator.

[FR Doc. 2012-20008 Filed 8-14-12; 8:45 am]

BILLING CODE 4410-09-P